DEPARTMENT OF TRANSPORTATION

Surface Transportation Board

[STB Finance Docket No. 35297]

New Jersey Seashore Lines, Inc.—Operation Exemption—Clayton Sand Company

New Jersey Seashore Lines, Inc. (NJSL), a noncarrier, has filed a verified notice of exemption under 49 CFR 1150.31 to operate approximately 13 miles of rail line ¹ owned by Clayton Sand Company (Clayton), between milepost 66.0 at Lakehurst, Borough of Lakehurst, in Ocean County, NJ, and milepost 79.0 at Woodmansie, Woodland Township, in Burlington County, NJ.²

¹ According to NJSL, the line was formerly operated as private industry track by Ashland Railway, Inc., under contract. Prior to that time, the line was owned by Consolidated Rail Corporation (Conrail), which abandoned it before Clayton's acquisition in 1985.

² NJSL states that the line connects to the national rail system at Lakehurst, NJ.

This transaction is related to a concurrently filed verified notice of exemption for Anthony Macrie (Macrie), a noncarrier, to continue in control of NJSL and Class III rail carrier Cape May Seashore Lines, Inc., upon NJSL's becoming a Class III rail carrier. See STB Finance Docket No. 35296, Anthony Macrie—Continuance in Control Exemption—New Jersey Seashore Lines, Inc.³

³ By decision served on September 25, 2009, the Board held publication of the notice in the Federal Register and effectiveness of the exemption in abeyance pending further filings by NJSL or Clayton. On October 14, 2009, NJSL and Macrie filed a joint pleading in response to the Board's order. On October 22, 2009, James Riffin filed a notice of intent to participate as a party of record and specified a number of findings he wanted the Board to make in connection with the notice. The Board will specifically address the issues raised in the above filings in a future Board decision, but the explanation provided by NJSL is sufficient to permit the publication of the notice.

The transaction may be consummated on or after December 25, 2009.

NJSL certifies that its projected annual revenues as a result of the transaction will not result in NJSL becoming a Class II or Class I rail carrier and further certifies that its projected annual revenue will not exceed $5 million.

Pursuant to the Consolidated Appropriations Act, 2008, Public Law 110-161, § 193, 121 Stat. 1844 (2007), nothing in this decision authorizes the following activities at any solid waste rail transfer facility: Collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than December 18, 2009 (at least 7 days before the exemption becomes effective).

An original and 10 copies of all pleadings, referring to STB Finance Docket No. 35297, must be filed with the Surface Transportation Board, 395 E Street, SW., Washington, DC 20423-0001. In addition, a copy of each pleading must be served on John D. Heffner, 1750 K Street, NW., Suite 200, Washington, DC 20006.

Board decisions and notices are available on our Web site at http://www.stb.dot.gov.

Decided: December 7, 2009.
By the Board, Rachel D. Campbell, Director, Office of Proceedings.
Kulunie L. Cannon,
Clearance Clerk.

[FR Doc. E9-29497 Filed 12-10-09; 8:45 am]

BILLING CODE 4915-01-P